ENVIRONMENTAL PROTECTION AGENCY

[FRL-9776-3]

Request for Nominations of Experts to the EPA Office of Research and Development's Board of Scientific Counselors

AGENCY: Environmental Protection Agency.

ACTION: Notice.

SUMMARY: The U.S. Environmental Protection Agency (EPA) is seeking nominations for technical experts to serve on its Board of Scientific Counselors (BOSC), a federal advisory committee to the Office of Research and Development (ORD). Submission of nominations is preferred via the BOSC Web site at: http://www.epa.gov/osp/bosc/nomination.htm.

DATES: Nominations should be submitted by April 1, 2013, per instructions below.

FOR FURTHER INFORMATION CONTACT: Any member of the public needing additional information regarding this Notice and Request for Nominations may contact Mr. Greg Susanke, Office of Science Policy, Office of Research and Development, Mail Code 8104-R, Environmental Protection Agency, 1200 Pennsylvania Avenue NW., Washington, DC 20460; via phone/voice mail at: (202) 564-9945; via fax at: (202) 565-2911; or via email at: susanke.greg@epa.gov. General information concerning the BOSC can be found at the following Web site: http://www.epa.gov/osp/bosc.

SUPPLEMENTARY INFORMATION:

Background

The BOSC is a chartered Federal Advisory Committee that was established by the EPA to provide independent scientific and technical peer review, advice, consultation, and recommendations about ORD. As a Federal Advisory Committee, the BOSC conducts business in accordance with the Federal Advisory Committee Act (FACA) (5 U.S.C. App. 2) and related regulations.

The BOSC is comprised of an Executive Committee and six supporting subcommittees currently being formed. Each of these subcommittees will focus on one of ORD's research programs: Air, Climate, and Energy Research Program; Chemical Safety for Sustainability Research Program; Homeland Security Research Program; Human Health Risk Assessment Research Program; Safe and Sustainable Water Resources Research Program; and Sustainable and Healthy Communities Research Program. Please visit http://www.epa.gov/ord/research-programs.htm to learn more about these programs.

Members of the BOSC are recognized experts in various scientific, engineering, and social science fields. EPA will consider nominees from academia, industry, business, public and private research institutes or organizations, government (federal, state, local, and tribal) and non-government organizations, and other relevant interest areas. Members are appointed by the EPA Administrator for a period of three years and serve as special government employees. EPA values and welcomes diversity. In an effort to obtain nominations of diverse candidates, EPA encourages nominations of women and men of all racial and ethnic groups.

Expertise Sought

EPA's BOSC Staff Office is seeking nominations of nationally and internationally recognized scientists and engineers having experience and expertise in one or more of the following areas:

• Atmospheric Science

—aerosol chemistry

—aerosol physical science

—air quality modeling

—atmospheric chemistry

—atmospheric physics

• Biology

—biogeochemistry

—cell biology

—endocrinology (endocrine disruptors)

—microbiology/molecular biology

—pharmacokinetics

—systems biology

• Chemistry

—analytical chemistry

—combustion chemistry

—environmental chemistry

—green chemistry

—physical chemistry

—water chemistry

• Climate Change/Global Change

—adaption

—modeling

—variability

—greenhouse gas technology assessment

• Ecology

—aquatic ecology (freshwater, wetland)

—ecosystem services

—hydrology/hydraulics (watershed modeling)

—plant/forestry ecology

—water resources

—soil biogeochemistry

—system ecology

—landscape ecology

—urban ecology

• Engineering

—biochemical engineering

—bioenvironmental engineering

—civil engineering (drinking water treatment and distribution, stormwater treatment, wastewater treatment, storm-, and wastewater infrastructure)

—chemical engineering

—combustion engineering

—environmental engineering (decontamination, clean-up, management)

—industrial engineering

—mechanical engineering

• Information Science

—information technology

—information visualization

—research communication

—spatial analysis

—uncertainty analysis

• Nanotechnology

• Public Health

—children's health

—community health

—environmental health

—epidemiology/molecular epidemiology

—exposure science (assessment, predictive)

• Risk Assessment (cumulative risk assessment, mixtures risk assessment, ecological risk assessment, human health risk assessment)

• Sustainability

—community/urban level planning and sustainability

—industrial (industrial ecology, life cycle analysis, technology policy, systems engineering)

—energy

—energy and water relationship

• Toxicology

—computational toxicology (computational biology, genomics, proteomics, metabonomics, computational chemistry, high-throughput bioassays, informatics, bioinformatics, predictive toxicology)

—ecotoxicology

—developmental/reproductive toxicology

—immunotoxicology

—molecular toxicology

—neurotoxicology

—pulmonary/cardiovascular toxicology

—carcinogenesis

• Science Policy/Public Policy

—science policy

—public policy

—environmental justice

—science program evaluation

• Social Science

—community disaster recovery and resiliency

—economics (ecological economics, environmental economics, natural resource economics, human health economics)

—socioeconomics

—sociology

• Behavioral Science

—psychology

—ecopsychology

—environmental psychology

—conservation psychology

—social neuroscience

—risk perception

—risk/crisis communication

—community decision making

• Decision Science

—decision analysis

—value of information

—decision support system

Process and Deadline for Submitting Nominations

Any interested person or organization may nominate themselves or qualified individuals in the areas of expertise described above. Nominations should be submitted via the BOSC Web site (which is preferred over hard copy) at: http://www.epa.gov/osp/bosc/nomination.htm. Nominations should be submitted in time to arrive no later than April 1, 2013. To receive full consideration, nominations should include all of the information requested. EPA's BOSC Staff Office requests: Contact information about the person making the nomination; contact information about the nominee; the disciplinary and specific areas of expertise of the nominee; subcommittee preference; the nominee's curriculum vita and/or resume; and additional information that would be useful for considering the nomination such as background and qualifications (e.g., current position, educational background, expertise, research areas), experience relevant to one or more of ORD's research programs, service on other advisory committees and professional societies, and availability to participate as a member of the committee/subcommittee. Persons having questions about the nomination procedures, or who are unable to submit nominations through the BOSC Web site, should contact Mr. Greg Susanke, as indicated above in this notice.

Selection Criteria

The BOSC is a balanced and diverse expert committee. The committee and each of its subcommittees possess necessary domains of expertise, depth and breadth of knowledge, and diverse and balanced scientific perspectives. Nominations will be evaluated on the basis of several criteria including: (a) Scientific and/or technical expertise, knowledge, and experience; (b) availability to serve and willingness to commit time to the committee (approximately one to three meetings per year including both face-to-face meetings and teleconferences); (c) absence of financial conflicts of interest; (d) absence of an appearance of a lack of impartiality; (e) skills working on committees and advisory panels; and (f) background and experiences that would contribute to the diversity of viewpoints on the committee/subcommittees, e.g., workforce sector, geographical location, social, cultural, and educational backgrounds, and professional affiliations.

The BOSC Staff Office's evaluation of an absence of financial conflicts of interest will include a review of the “Confidential Financial Disclosure Form for Special Government Employees Serving on Federal Advisory Committees at the U.S. Environmental Protection Agency” (EPA Form 3110-48). This confidential form allows Government Officials to determine whether there is a statutory conflict between that person's public responsibilities (which includes membership on an EPA Federal Advisory Committee) and private interests and activities, or the appearance of a lack of impartiality, as defined by Federal regulation. The form may be viewed and downloaded from the following URL address, http://www.epa.gov/osp/bosc/pdf/EPA_3110-48.pdf.

Dated: January 29, 2013.
Fred S. Hauchman,
Director, Office of Science Policy.

[FR Doc. 2013-02495 Filed 2-4-13; 8:45 am]

BILLING CODE 6560-50-P